DEPARTMENT OF COMMERCE

International Trade Administration

A-570-803

Heavy Forged Hand Tools From the People's Republic of China; Amended Final Results of Antidumping Duty Administrative Reviews in Accordance with Court Decision

AGENCY: Import Administration, International Trade Administration, Department of Commerce.

ACTION: Notice of amended final results of antidumping duty administrative reviews in accordance with court decision.

SUMMARY: On February 17, 1999, the Court of International Trade (CIT) affirmed the second remand determination of the Department of Commerce (the Department) arising from the administrative reviews of the antidumping duty orders on heavy forged hand tools (HFHTs) from the People's Republic of China (PRC). See Olympia Industrial, Inc., v. United States, Slip Op. 99-18, 36 F. Supp. 2d 414 (CIT 1999). As there is now a final and conclusive court decision in this segment, we are amending the final results of reviews in this matter and will instruct the U.S. Customs Service to liquidate entries subject to these amended final results.

EFFECTIVE DATE: March 23, 2000.

FOR FURTHER INFORMATION CONTACT: Michael Strollo or Maureen Flannery, Antidumping/Countervailing Duty Enforcement, Import Administration, International Trade Administration, U.S. Department of Commerce, 14th Street and Constitution Avenue, NW., Washington DC 20230; telephone (202) 482-5255 and (202) 482-3020, respectively.

SUPPLEMENTARY INFORMATION:

Background

On February 1, 1991, the Department issued antidumping duty orders on HFHTs from the PRC. See Antidumping Duty Orders: Heavy Forged Hand Tools, Finished or Unfinished, With or Without Handles from the People's Republic of China, 56 FR 6622 (February 19, 1991) (Antidumping Duty Orders). On September 22, 1995, the Department published its final results of the second administrative reviews of HFHTs for two PRC exporters, Fujian Machinery and Equipment Import and Export Corporation (FMEC) and Shandong Machinery Import and Export Corporation (SMC). See Heavy Forged Hand Tools from the People's Republic of China; Final Results of Antidumping Duty Administrative Reviews, 60 FR 49251 (September 22, 1995) (Final Results).

On April 10, 1997, the CIT issued an order remanding these final results to the Department. See Olympia Indus., Inc. v. United States, Slip Op. 97-44, 1999 Ct. Int'l Trade Lexis 43 (April 10, 1997). The CIT instructed the Department to (1) assess the reliability of PRC trading company data for valuing steel inputs used to produce HFHTs during the period of review (POR) and (2) calculate inland freight expenses based on the longest distance between input suppliers to the factory.

On July 21, 1997, in accordance with the CIT's remand order, the Department filed its final results pursuant to remand. See Final Results of Redetermination Pursuant to Court Remand (July 21, 1997). In considering the Department's remand determination, the CIT sustained Commerce's recalculation of inland freight expenses. The CIT, however, found unreasonable the Department's rejection of the PRC import data without having assessed its reliability. As a result, the CIT again remanded the results so that the Department might consider whether the PRC trading companies' steel input data was the best information available to value the factors of production. Olympia Industrial, Inc. v. United States, Slip Op. 98-49, 7 F. Supp. 2d 997 (CIT 1998).

On August 31, 1998, in accordance with the CIT's second remand order, the Department filed its second final results pursuant to remand. See Final Results of Redetermination Pursuant to Court Remand, Olympia Indus., Inc. v. United States (August 31, 1998). In this redetermination, the Department first examined the pricing data regarding steel inputs imported into the PRC. The Department determined that the prices paid by the trading company for these imported steel inputs were aberrationally low. Therefore, the Department determined that the PRC trading company pricing data were unreliable and, hence, unacceptable for purposes of valuing the steel inputs used to produce the HFHTs. On February 17, 1999, the CIT upheld the Department's second redetermination on remand. Olympia Industrial, Inc. v. United States, 36 F. Supp. 2d 414. Neither party appealed the CIT's decision.

There is now a final and conclusive court decision in this action; therefore, we are amending our final results of review for the period February 1, 1992 through January 31, 1993. We recalculated margins on each product category for FMEC and SMC. The revised weighted average margins are as follows:

Manufacturer/Exporter | Margin (percent)
Fujian Machinery & Equipment Import & Export Corp.:
Axes/Adzes | 14.23
Bars/Wedges | 47.88
Hammers/Sledges | 27.71
Picks/Mattocks | 89.70
Shandong Machinery Import & Export Corp.:
Axes/adzes | 14.23
Bars/Wedges | 33.87
Hammers/Sledges | 22.44
Picks/Mattocks | 36.62

Accordingly, the Department will determine, and the Customs Service will assess, anticumping duites on all entries of subject merchandise from FMEC and SMC in accordance with these amended final results. For assessment purposes, we have calcualted importer-specific duty assessment rates for each class or kind of merchandise based on the ratio of the total amount of anticumping duties calculated for the examined sales furing the POR to the total quantity of sales examined during the POR. The Department will issue appraisement instructions directly to Customs. The above rate will not affect FMEC or SMC's cash deposit rates currently in effect, which continue to be based on the margins found to exist in the most recent completed review.

This notice is published in accordance with section 751(a)(1) of the Tariff Act (19 U.S.C. 1675(a)(1)) and 19 CFR 351.221.

Dated: March 15, 2000.
Robert S. LaRussa,
Assistant Secretary for Import Administration.

[FR Doc. 00-7236 Filed 3-22-00; 8:45 am]

BILLING CODE 3510-DS-P